DEPARTMENT OF LABOR

Office of Workers' Compensation Programs

Proposed Collection; Comment Request: Division of Coal Mine Workers' Compensation

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Workers' Compensation Programs is soliciting comments concerning the proposed collection: Notice of Termination, Suspension, Reduction or Increase in Benefit Payments (CM-908). A copy of the information collection request can be obtained by contacting the office listed below in the addresses section of this Notice.

DATES: Written comments must be submitted to the office listed in the addresses section below on or before April 20, 2015.

ADDRESSES: Ms. Yoon Ferguson, U.S. Department of Labor, 200 Constitution Ave. NW., Room S-3201, Washington, DC 20210, telephone (202) 354-9647, fax (202) 693-1447, Email ferguson.yoon@dol.gov. Please use only one method of transmission for comments (mail, fax, or Email).

SUPPLEMENTARY INFORMATION:

I. Background: The Office of Workers' Compensation Programs (OWCP) administers the Federal Mine Safety and Health Act of 1977 as amended, Section 432 (30 U.S.C. 942) and 20 CFR 725.621 necessitate this information collection. Under this Act, Coal mine operators, their representatives, or their insurers who have been identified as responsible for paying Black Lung benefits to an eligible miner or an eligible surviving dependent of the miner, are called Responsible Operators (RO's). RO's that pay benefits are required to report any change in the benefit amount to the Department of Labor (DOL). The CM-908, when completed and sent to DOL, notifies DOL of the change in the beneficiary's benefit amount and the reason for the change. The Federal Mine Safety and Health Act of 1977 as amended, Section 432 (30 U.S.C. 942) and 20 CFR 725.621 necessitate this information collection. This information collection is currently approved for use through August 31, 2015.

II. Review Focus: The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions: The Department of Labor seeks the approval for the extension of this currently-approved information collection in order to carry out its responsibility to evaluate an applicant ability to be a representative payee. If the Program were not able to screen representative payee applicants the beneficiary's best interest would not be served.

Agency: Office of Workers' Compensation Programs.

Type of Review: Extension.

Title: Notice of Termination, Suspension, Reduction or Increase in Benefit Payments.

OMB Number: 1240-0030.

Agency Number: CM-908.

Affected Public: Business or other for profit.

Total Respondents: 325.

Total Annual Responses: 5,000.

Average Time per Response: 12 minutes.

Estimated Total Burden Hours: 1,000.

Frequency: On occasion and annually.

Total Burden Cost (capital/startup): $0.

Total Burden Cost (operating/maintenance): $5,200.

Comments submitted in response to this notice will be summarized and/or included in the request for Office of Management and Budget approval of the information collection request; they will also become a matter of public record.

Dated: February 12, 2015.
Yoon Ferguson,
Agency Clearance Officer, Office of Workers' Compensation Programs, US Department of Labor.

[FR Doc. 2015-03283 Filed 2-17-15; 8:45 am]

BILLING CODE 4510-CK-P